NATIONAL AERONAUTICS AND SPACE ADMINISTRATION

[Notice 01-105]

Government-Owned Inventions, Available for Licensing

AGENCY: National Aeronautics and Space Administration.

ACTION: Notice of Availability of Inventions for Licensing.

SUMMARY: The inventions listed below are assigned to the National Aeronautics and Space Administration, have been filed in the United States Patent and Trademark Office, and are available for licensing.

DATES: August 30, 2001.

FOR FURTHER INFORMATION CONTACT: Kent N. Stone, Patent Counsel, Glenn Research Center at Lewis Field, Mail Code 500-118, Cleveland, Ohio 44135; telephone (216) 433-8855, fax (216) 433-6790.

NASA Case No. LEW-16636-2: Reduced Toxicity Fuel Satellite Propulsion System Including Catalytic Decomposing Element With Hydrogen Peroxide;

NASA Case No. LEW-16636-3: Reduced Toxicity Fuel Satellite Propulsion System Including Fuel Cell Reformer With Alcohols;

NASA Case No. LEW-16636-4: Reduced Toxicity Fuel Satellite Propulsion System Including Plasmatron;

NASA Case No. LEW-16636-5: Reduced Toxicity Fuel Satellite Propulsion System Including Axial Thruster And ACS Thruster Combination;

NASA Case No. LEW-16988-1: Magnetohydrodynamic Power Extraction And Flow Conditioning In A Gas Turbine Inlet;

NASA Case No. LEW-17111-1: Planar Particle Imaging And Doppler Velocimetry (PPIDV);

NASA Case No. LEW-17133-1: High Performance Polymers From The Diels-Alder Trapping Of Photochemically Generated Intermediates.

Dated: August 22, 2001.
Edward A. Frankle,
General Counsel.

[FR Doc. 01-21873 Filed 8-29-01; 8:45 am]

BILLING CODE 7510-01-P